DEPARTMENT OF COMMERCE

International Trade Administration

[A-570-909]

Certain Steel Nails From the People's Republic of China: Extension of Time Limit for the Preliminary Results of the New Shipper Review

AGENCY: Import Administration, International Trade Administration, Department of Commerce.

EFFECTIVE DATE: June 11, 2009.

FOR FURTHER INFORMATION CONTACT: Tim Lord, AD/CVD Operations, Office 9, Import Administration, International Trade Administration, U.S. Department of Commerce, 14th Street and Constitution Avenue, NW, Washington, DC 20230; telephone: (202) 482-7524.

Background

The notice announcing the antidumping duty order on certain steel nails from the People's Republic of China (“PRC”) was published in the Federal Register on August 1, 2008. See Notice of Antidumping Duty Order: Certain Steel Nails From the People's Republic of China, 73 FR 44961 (August 1, 2008) (“Antidumping Duty Order”). On February 25, 2009, we received a timely request for a new shipper review from Qingdao Denarius Manufacture Co., Ltd (“Qingdao Denarius”) in accordance with 19 CFR 351.214(c) and 351.214(d)(2). On March 20, 2009, the Department of Commerce (“Department”) published a notice of initiation of a new shipper review of certain steel nails from the People's Republic of China covering the period of January 23, 2008, through January 31, 2009. See Certain Steel Nails From the People's Republic of China: Initiation of Antidumping Duty New Shipper Review, 74 FR 11909, (March 20, 2009). The preliminary results are currently due no later than September 12, 2009.

Statutory Time Limits

Section 751(a)(2)(B)(iv) of the Tariff Act of 1930, as amended (“Act”), provides that the Department will issue the preliminary results of a new shipper review of an antidumping duty order within 180 days after the day on which the review was initiated. See also 19 CFR 351.214 (i)(1). The Act further provides that the Department may extend that 180-day period to 300 days if it determines that the case is extraordinarily complicated. See also 19 CFR 351.214 (i)(2).

Extension of Time Limit of Preliminary Results

The Department determines that this new shipper review involves extraordinarily complicated methodological issues such as the examination of importer information and the evaluation of the bona fide nature of the company's sales. Therefore, in accordance with section 751(a)(2)(B)(iv) of the Act and 19 CFR 351.214(i)(2), the Department is extending the time limit for these preliminary results by 120 days, until no later than January 10, 2010. The final results continue to be due 90 days after the publication of the preliminary results.

We are issuing and publishing this notice in accordance with sections 751(a)(2)(B)(iv) and 777(i) of the Act.

Dated: June 5, 2009.
John M. Andersen,
Acting Deputy Assistant Secretary for Antidumping and Countervailing Duty Operations.

[FR Doc. E9-13737 Filed 6-10-09; 8:45 am]

BILLING CODE 3510-DS-S